DEPARTMENT OF THE INTERIOR

National Park Service

[NPS-WASO-NAGPRA-NPS0038220; PPWOCRADN0-PCU00RP14.R50000]

Notice of Intended Repatriation: Minnesota Historical Society, St. Paul, MN

AGENCY: National Park Service, Interior.

ACTION: Notice.

SUMMARY: In accordance with the Native American Graves Protection and Repatriation Act (NAGPRA), the Minnesota Historical Society intends to repatriate a certain cultural item that meets the definition of an unassociated funerary object and sacred object and that has a cultural affiliation with the Indian Tribes or Native Hawaiian organizations in this notice.

DATES: Repatriation of the cultural item in this notice may occur on or after August 12, 2024.

ADDRESSES: Cecily Marcus, Minnesota Historical Society, 345 West Kellogg Boulevard, Saint Paul, MN 55102, telephone (651) 259-3123, email cecily.marcus@mnhs.org.

SUPPLEMENTARY INFORMATION: This notice is published as part of the National Park Service's administrative responsibilities under NAGPRA. The determinations in this notice are the sole responsibility of the Minnesota Historical Society, and additional information on the determinations in this notice, including the results of consultation, can be found in the summary or related records. The National Park Service is not responsible for the determinations in this notice.

Abstract of Information Available

A total of one cultural item has been requested for repatriation. The one item, determined by MNHS and Native American consultants to be both an Unassociated Funerary Object and a Sacred Object, is the noose used to execute Wicanhpi Wastedanpi (Good Little Stars, or, Chaske), also known as the “Mankato Hanging Rope” (MNHS #3333.H474). Wicanhpi Wastedanpi was one of the 38 Dakota men hanged on December 26, 1862 in Mankato, MN. Museum records indicate the noose was removed from the neck of Wicanhpi Wastedanpi by Army Adjutant J.K. Arnold after the hangings, and donated by him to MNHS in 1869. The cultural affiliation of the item is to all federally recognized U.S. Dakota Tribes as determined by museum records and consultation with tribal representatives. No potentially hazardous substances are known to have been used to treat this item.

Determinations

The Minnesota Historical Society has determined that:

• The one unassociated funerary object described in this notice is reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The one sacred object described in this notice is specific ceremonial objects needed by a traditional Native American religious leader for present-day adherents to practice traditional Native American religion, according to the Native American traditional knowledge of a lineal descendant, Indian Tribe, or Native Hawaiian organization.

• There is a reasonable connection between the cultural item described in this notice and the Prairie Island Indian Community in the State of Minnesota.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after August 12, 2024. If competing requests for repatriation are received, the Minnesota Historical Society must determine the most appropriate requestor prior to repatriation. Requests for joint repatriation of the cultural items are considered a single request and not competing requests. The Minnesota Historical Society is responsible for sending a copy of this notice to the Indian Tribes and Native Hawaiian organizations identified in this notice and to any other consulting parties.

Authority: Native American Graves Protection and Repatriation Act, 25 U.S.C. 3004 and the implementing regulations, 43 CFR 10.9.

Dated: June 26, 2024.
Melanie O'Brien,
Manager, National NAGPRA Program.

[FR Doc. 2024-15198 Filed 7-10-24; 8:45 am]

BILLING CODE 4312-52-P